DEPARTMENT OF TRANSPORTATION

Federal Aviation Administration

14 CFR Part 39

[Docket No. FAA-2009-1176; Directorate Identifier 2009-CE-062-AD; Amendment 39-16226; AD 2010-06-02]

RIN 2120-AA64

Airworthiness Directives; Hawker Beechcraft Corporation Model G58 Airplanes

AGENCY: Federal Aviation Administration (FAA), DOT.

ACTION: Final rule.

SUMMARY: We are adopting a new airworthiness directive (AD) for certain Hawker Beechcraft Corporation Model G58 airplanes. This AD requires inspecting the installation of stand-off hardware between the heater fuel line and the heater over-temperature sensor wires and also brake reservoir tubing and the heater fuel pump wiring for minimum clearance and installing acceptable stand-off hardware if stand-off hardware is missing or inadequate. This AD results from reports received of a power wire shorting out on the brake reservoir tube. We are issuing this AD to detect and correct inadequate clearance of the brake reservoir tubing and the heater fuel pump wiring, which could result in chafing and shorting out of the electrical wiring and chafing of the tubing carrying flammable fluids. This condition could lead to a fire in the nose wheel well.

DATES: This AD becomes effective on April 15, 2010.

On April 15, 2010, the Director of the Federal Register approved the incorporation by reference of certain publications listed in this AD.

ADDRESSES: To get the service information identified in this AD, contact Hawker Beechcraft Corporation, P.O. Box 85, Wichita, Kansas 67201-0085; telephone: 1 (800) 429-5372 or (316) 676-3140; fax: (316) 676-3340; Internet: http://www.hawkerbeechcraft.com.

To view the AD docket, go to U.S. Department of Transportation, Docket Operations, M-30, West Building Ground Floor, Room W12-140, 1200 New Jersey Avenue, SE., Washington, DC 20590, or on the Internet at http://www.regulations.gov. The docket number is FAA-2009-1176; Directorate Identifier 2009-CE-062-AD.

FOR FURTHER INFORMATION CONTACT: Kevin Schwemmer, Aerospace Engineer, FAA Wichita Aircraft Certification Office, 1801 Airport Road, Room 100, Wichita, Kansas 67209; telephone: (316) 946-4174; fax: (316) 946-4107.

SUPPLEMENTARY INFORMATION:

Discussion

On December 8, 2009, we issued a proposal to amend part 39 of the Federal Aviation Regulations (14 CFR part 39) to include an AD that would apply to certain Hawker Beechcraft Corporation Model G58 airplanes. This proposal was published in the Federal Register as a notice of proposed rulemaking (NPRM) on December 17, 2009 (74 FR 66930). The NPRM proposed to require inspecting the installation of stand-off hardware between the heater fuel line and the heater over-temperature sensor wires and also brake reservoir tubing and the heater fuel pump wiring for minimum clearance and installing acceptable stand-off hardware if stand-off hardware is missing or inadequate.

Comments

We provided the public the opportunity to participate in developing this AD. The following presents the comments received on the proposal and FAA's response to each comment:

Comment Issue No. 1: Effective Date

Mr. Busby states we should make the effective date of the AD immediate.

The FAA disagrees. We carefully reviewed the data for this safety concern to assess the risk level of this particular event. After reviewing the data, we compared this safety concern with similar safety concerns in the past. Then, we assigned a level of risk for this particular event equivalent to the level of risk assigned to the similar past safety concerns we used for comparison. With the information we have at this time, we set the time frame to comply with the actions for this AD similar to the time frame that was set for similar safety concerns that had equivalent risk levels. Without additional information to increase the risk level of this safety concern we have determined that the time frame set for complying with this safety concern is in line with past precedent.

We are not changing the final rule AD action based on this comment.

Comment Issue No. 2: Work-Hours

Mr. Busby states that the work-hours allotted to do the proposed inspection are not enough. We infer the commenter wants us to increase the work-hours to do the proposed inspection to relieve the pressure on mechanics.

The FAA disagrees. For this AD, we derived the work-hours from the Hawker Beechcraft Corporation service information. Those work-hours were used to calculate the estimated cost impact on the owners/operators of the affected airplanes. The FAA uses that cost estimate in the economic analysis to determine if the AD will have a substantial impact on small entities. In general, the direct cost to an operator is the most significant economic consideration of an AD. Since the work-hours in the AD are estimates for determining cost impact to the operator, maintenance personnel may take more or less time to do the inspection and/or maintenance as is necessary for that particular aircraft or task. Moderately increasing the estimated work-hours for the initial inspection does not significantly increase the cost impact on the operator.

We are not changing the final rule AD action based on this comment.

Conclusion

We have carefully reviewed the available data and determined that air safety and the public interest require adopting the AD as proposed except for minor editorial corrections. We have determined that these minor corrections:

• Are consistent with the intent that was proposed in the NPRM for correcting the unsafe condition; and

• Do not add any additional burden upon the public than was already proposed in the NPRM.

Costs of Compliance

We estimate that this AD affects 71 airplanes in the U.S. registry.

We estimate the following costs to do the inspection of the heater fuel line, the heater over-temperature sensor wires, the brake reservoir line, and the fuel heater power wire:

Labor cost | Parts cost | Total cost per airplane | Total cost on U.S. operators
1 work-hour × $85 per hour = $85 | Not applicable | $85 | $6,035

We estimate the following costs to do any necessary stand-off hardware installation that would be required based on the results of the inspection. We have no way of determining the number of airplanes that may need this installation:

Labor cost | Parts cost | Total cost per airplane
.5 work-hour × $85 per hour = $42.50 | $50 | $92.50

We estimate the following costs to do any necessary replacement of the brake line that would be required based on the results of the inspection. We have no way of determining the number of airplanes that may need this installation:

Labor cost | Parts cost | Total cost per airplane
6 work-hours × $85 per hour = $510 | $100 | $610

Hawker Beechcraft Corporation will allow warranty credit as specified in Hawker Beechcraft Mandatory Service Bulletin SB 32-3898, dated November 2008.

Authority for This Rulemaking

Title 49 of the United States Code specifies the FAA's authority to issue rules on aviation safety. Subtitle I, Section 106 describes the authority of the FAA Administrator. Subtitle VII, Aviation Programs, describes in more detail the scope of the agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this AD.

Regulatory Findings

We have determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD (and other information as included in the Regulatory Evaluation) and placed it in the AD Docket. You may get a copy of this summary by sending a request to us at the address listed under ADDRESSES. Include “Docket No. FAA-2009-1176; Directorate Identifier 2009-CE-062-AD” in your request.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new AD to read as follows:

2010-06-02 Hawker Beechcraft Corporation: Amendment 39-16226; Docket No. FAA-2009-1176; Directorate Identifier 2009-CE-062-AD.

Effective Date

(a) This AD becomes effective on April 15, 2010.

Affected ADs

(b) None.

Applicability

(c) This AD applies to Model G58 airplanes, serial numbers TH-2125 through TH-2172 and TH-2174 through TH-2220, that are certificated in any category.

Subject

(d) Air Transport Association of America (ATA) Code 32: Landing Gear.

Unsafe Condition

(e) This AD results from reports received of a power wire shorting out on the brake reservoir tube. We are issuing this AD to detect and correct inadequate clearance of the brake reservoir tubing and the heater fuel pump wiring, which could result in chafing and shorting out of the electrical wiring and chafing of the tubing carrying flammable fluids. This condition could lead to a fire in the nose wheel well.

Compliance

(f) To address this problem, you must do the following, unless already done:

Actions | Compliance | Procedures
(1) Inspect the installation of the stand-off hardware between the heater fuel line and heater over-temperature sensor wires for minimum clearance | Within the next 50 hours time-in-service (TIS) after April 15, 2010 (the effective date of this AD) or within the next 12 months after April 15, 2010 (the effective date of this AD), whichever occurs first | Follow Hawker Beechcraft Mandatory Service Bulletin SB 32-3898, dated November 2008.
(2) If, during the inspection required in paragraph (f)(1) of this AD, the stand-off hardware is not installed or it does not maintain the minimum clearance, install stand-off hardware as specified in the service information | Before further flight after the inspection where the missing stand-off hardware and/or inadequate clearance was found | Follow Hawker Beechcraft Mandatory Service Bulletin SB 32-3898, dated November 2008.
(3) Inspect the brake reservoir line and the fuel heater power wire for damage | Within the next 50 hours TIS after April 15, 2010 (the effective date of this AD) or within the next 12 months after April 15, 2010 (the effective date of this AD), whichever occurs first | Follow Hawker Beechcraft Mandatory Service Bulletin SB 32-3898, dated November 2008.
(4) If, during the inspection required in paragraph (f)(3) of this AD, damage is found, repair or replace damaged tubing and/or wiring found | Before further flight after the inspection where damaged tubing and/or wiring was found | Follow Hawker Beechcraft Mandatory Service Bulletin SB 32-3898, dated November 2008.
(5) Inspect the installation of the stand-off hardware between the brake reservoir line and the fuel heater power wire for minimum clearance | Within the next 50 hours TIS after April 15, 2010 (the effective date of this AD) or within the next 12 months after April 15, 2010 (the effective date of this AD), whichever occurs first | Follow Hawker Beechcraft Mandatory Service Bulletin SB 32-3898, dated November 2008.
(6) If, during the inspection required in paragraph (f)(5) of this AD, the stand-off hardware is not installed or it does not maintain the minimum clearance, install stand-off hardware as specified in the service information | Before further flight after the inspection where the missing stand-off hardware and/or inadequate clearance was found | Follow Hawker Beechcraft Mandatory Service Bulletin SB 32-3898, dated November 2008.

Alternative Methods of Compliance (AMOCs)

(g) The Manager, Wichita Aircraft Certification Office (ACO), FAA, has the authority to approve AMOCs for this AD, if requested using the procedures found in 14 CFR 39.19. Send information to ATTN: Kevin Schwemmer, Aerospace Engineer, FAA Wichita Aircraft Certification Office, 1801 Airport Road, Room 100, Wichita, Kansas 67209; telephone: (316) 946-4174; fax: (316) 946-4107. Before using any approved AMOC on any airplane to which the AMOC applies, notify your appropriate principal inspector (PI) in the FAA Flight Standards District Office (FSDO), or lacking a PI, your local FSDO.

Material Incorporated by Reference

(h) You must use Hawker Beechcraft Mandatory Service Bulletin SB 32-3898, dated November 2008, to do the actions required by this AD, unless the AD specifies otherwise.

(1) The Director of the Federal Register approved the incorporation by reference of this service information under 5 U.S.C. 552(a) and 1 CFR part 51.

(2) For service information identified in this AD, contact Hawker Beechcraft Corporation, P.O. Box 85, Wichita, Kansas 67201-0085; telephone: 1 (800) 429-5372 or (316) 676-3140; fax: (316) 676-3340; Internet: http://www.hawkerbeechcraft.com.

(3) You may review copies of the service information incorporated by reference for this AD at the FAA, Central Region, Office of the Regional Counsel, 901 Locust, Kansas City, Missouri 64106. For information on the availability of this material at the Central Region, call (816) 329-3768.

(4) You may also review copies of the service information incorporated by reference for this AD at the National Archives and Records Administration (NARA). For information on the availability of this material at NARA, call (202) 741-6030, or go to: http://www.archives.gov/federal_register/code_of_federal_regulations/ibr_locations.html.

Issued in Kansas City, Missouri, on March 2, 2010.
Sandra J. Campbell,
Acting Manager, Small Airplane Directorate, Aircraft Certification Service.

[FR Doc. 2010-5024 Filed 3-10-10; 8:45 am]

BILLING CODE 4910-13-P